DEPARTMENT OF TRANSPORTATION

National Highway Traffic Safety Administration

[U.S. DOT Docket Number NHTSA-2001-8907]

Reports, Forms, and Record Keeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before April 30, 2001.

ADDRESSES: Comments must refer to the docket notice numbers cited at the beginning of this notice and be submitted to Docket Management, Room PL-401, 400 Seventh Street, S.W., Washington, DC 20590. Please identify the proposed collection of information for which a comment is provided, by referencing its OMB clearance number. It is requested, but not required, that 2 copies of the comment be provided. The Docket Section is open on weekdays from 10 a.m. to 5 p.m.

FOR FURTHER INFORMATION CONTACT: Complete copies of each request for collection of information may be obtained at no charge from Walter Culbreath, NHTSA, 400 Seventh Street, S.W., Room 5208, NAD-40,Washington, D.C. 20590. Mr. Culbreath's telephone number is (202) 366-1566. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the following proposed collections of information:

(1) Title: Fatal Accident Reporting System (FARS).

OMB Control Number: 2127-0006.

Affected Public: State, Local, or Tribal Government.

Abstract: Under both the Highway Safety Act of 1966 and the National Traffic and Motor Vehicle Safety Act of 1966, the National Highway Traffic Safety Administration (NHTSA) has the responsibility to collect accident data that support the establishment and enforcement of motor vehicle regulations and highway safety programs. These regulations and programs are developed to reduce the severity of injury and the property damage associated with motor vehicle accidents. The Fatal Accident Reporting System (FARS) is a major system that acquires national fatality information directly from existing State files and documents. Since FARS is an on-going data acquisition system, reviews are conducted yearly to determine whether the data acquired are responsive to the total user population needs. The total user population includes Federal and State agencies and the private sector. Annual changes in the forms are minor in terms of operation and method of data acquisition, and do not affect the reporting burden of the respondent (State employees utilize existing State accident files). The changes usually involve clarification adjustments to aid statisticians in conducting more precise analyses and to remove potential ambiguity for the respondents.

Estimated Annual Burden: 77,400 hours.

Number of Respondents: 52.

(2) Title: Consumer Compliant/Recall Audit Information.

OMB Control Number: 2127-0008.

Affected Public: Individuals and households.

Abstract: Chapter 301 of Title 49 of the United States Code, the Secretary of Transportation is authorized to require manufacturers of motor vehicles and items of motor vehicle equipment to conduct owner notification and remedy, i.e., a recall campaign, when it has been determined that a safety defect exists in the performance, construction, components, or materials in motor vehicles and motor vehicle equipment. To make this determination, the National Highway Traffic Safety Administration (NHTSA) solicits information from vehicle owners which is used to identify and evaluate possible safety-related defects and provide the necessary evidence of the existence of such a defect. Under the Authority of Chapter 301 of Title 49 of the United States Code, the Secretary of Transportation is authorized to require manufacturers of motor vehicle and motor vehicle equipment which do not comply with the applicable motor vehicle safety standards or contains a defect that relates to motor vehicle safety to notify each owner that their vehicle contains a safety defect or noncompliance. Also, the manufacturer of each such motor vehicle item of replacement equipment presented for remedy pursuant to such notification shall cause such defect or noncompliance to be remedied without charge. In the case of a motor vehicle presented for remedy pursuant to such notification, the manufacturer shall cause the vehicle remedied by whichever of the following means he elects: (1) By repairing such vehicle; (2) by replacing such motor vehicle without charge; or (3) by refunding the purchase price less depreciation. To ensure these objectives are being met, NHTSA audits recalls conducted by manufacturers. These audits are performed on a randomly selected number of vehicle owners for verification and validation purposes.

Estimated Annual Burden: 36,380 hours.

Number of Respondents: 239,000.

(3) Title: 49 CFR Part 566, Manufacturers Identification.

OMB Control Number: 2127-0043.

Affected Public: Business or other for profit.

Abstract: The National Highway Traffic Safety Administration's statute at 49 U.S.C. 30118: Notification of defects and noncompliance, requires manufacturers to determine if the motor vehicle or item or replacement equipment contains a defect related to motor vehicle safety or fails to comply with an applicable Federal Motor Vehicle Safety Standard. Following such determination, the manufacturer is required to notify the Secretary of Transportation, owners, purchasers and dealers of motor vehicles or replacement equipment, of the defect or noncompliance and to remedy the defect or noncompliance without charge to the owner. With this determination, NHTSA issued 49 CFR Part 566, Manufacturer Identification. Part 566 requires every manufacturer of motor vehicles and/or replacement equipment to file with the agency on a one time basis, the required information specified in Part 566.

Estimated Annual Burden: 25 hours.

Number of Respondents: 100.

(4) Title: Names and Addresses of First Purchasers of Motor Vehicles.

OMB Control Number: 2127-0044.

Affected Public: Business or other for profit.

Abstract: 49 U.S.C. 30117: Providing information to, and maintaining records on, purchasers at subparagraph (b) Maintaining purchaser records and procedures, states in part: A manufacturer of motor vehicle or tire (except a retreaded tire) shall maintain a record of the name and address of the first purchasers of each vehicle or tire it produces and, to the extent prescribed by regulations of the Secretary, shall maintain a record of the name and address of the first purchaser of replacement equipment (except a tire) that the manufacturer produces. This agency has no regulation specifying how the information is to be collected or maintained. When NHTSA's authorizing statue was enacted in 1966, Congress determined that an efficient recall of defective or noncomplying motor vehicles required the vehicle manufacturers retain an accurate record of vehicle purchasers, by virtue of quick and easy access to this information, the manufacturer is able to quickly notify vehicle owners in the event of a recall. Experience with this statutory provision has shown that manufacturers have retained this information in a manner sufficient to enable them to expeditiously notify vehicle purchasers in case of a recall. Based on this experience, NHTSA has determined that no obligation is needed. Without this type of information readily available, manufacturers would either need to spend more time or money to notify purchasers of a recall.

Estimated Annual Burden: 950,000 hours.

Number of Respondents: 19,000.

(5) Title: 49 CFR 556, Petitions for Inconsequentiality.

OMB Control Number: 2127-0045.

Affected Public: Business or other for profit.

Abstract: The National Highway Traffic Safety Administration's statute at 49 U.S.C. 30113: General exemptions at subsection (b) Authority to exempt and procedures, authorizes the Secretary of Transportation upon application of a manufacturer, to exempt the applicant from the notice and remedy requirements of 49 U.S.C. Chapter 301, if the Secretary determines that the defect or noncompliance is inconsequential as it relates to motor vehicle safety. The notice and remedy requirements of Chapter 301 are set forth in 49 U.S.C. 30120, remedies for defects and noncompliance. Those sections require a manufacturer of motor vehicles or motor vehicle equipment to notify distributors, dealers, and purchasers if any of the manufacturer's products are determined either to contain a safety-related defect or to fail to comply with an applicable Federal motor vehicle safety standard. The manufacturer is under a concomitant obligation to remedy such defects or noncompliance. NHTSA exercised this statutory authority to excuse inconsequential defects or noncompliance when it promulgated 49 CFR Part 556, Petitions for Inconsequentiality—this regulation establishes the procedures for manufacturers to submit such petitions to the agency will use un evaluating those petitions. Part 556 allows the agency to ensure that petitions filed under 15 U.S.C. 30113(b) are both properly substantiated and efficiently processed.

Estimated Annual Burden: 30 hours.

Number of Respondents: 15.

(6) Title: Voluntary Child Safety Seat Registration Form.

OMB Control Number: 2127-0576.

Affected Public: Individuals and households.

Abstract: Chapter 301 of Title 49 of the United States provides that if either NHTSA or a manufacturer determines the motor vehicles or items of motor vehicle equipment contains a defect that relates to motor vehicle safety or fail to comply with an applicable Federal Motor Vehicle Safety Standard, the manufacturer must notify owners and purchasers of the defect of noncompliance and must provide a remedy without charge. Pursuant to 49 CFR Part 577, Defects and noncompliance notification for equipment items, including child safety seats, must be sent by first class mail to the most recent purchaser known to the manufacturer. In the absence of a registration system, many owners of child safety seats are not notified of safety defects and noncompliance, since the manufacturer is not aware of their identities.

Estimated Annual Burden: 26 hours.

Number of Respondents: 1,200.

(7) Title: Generic Clearance for Customer and External Stakeholder Surveys.

OMB Control Number: 2127-0579.

Affected Public: Individuals or households are primary survey respondents. Businesses or other-for profit, not-for-profit institutions, Federal agencies, and State, local or tribal governments are other possible survey respondents.

Abstract: Executive Order 12862 mandates that agencies survey their customers to identify the kind and quality of services they want and their level of satisfaction with existing services. Other requirements include the Governmental Performance and Results Act (GPRA) of 1993 which promotes a new focus on results, service quality, and customer satisfaction. NHTSA will use surveys of the public and other external stakeholders to gather data as one input to decision making on how to better meet the goal of improving safety on the nation's highways. The data gathered on public expectations, NHTSA's products and services, along with specific information on motor vehicle crash related issues, will be used by the agency to better structure its processes and products, forecast safety trends and achieve the agency's goals.

Estimated Annual Burden: 20,396 hours.

Number of Respondents: 134,334.

Herman L. Simms,
Associate Administrator for Administration.

[FR Doc. 01-4840 Filed 2-27-01; 8:45 am]

BILLING CODE 4910-59-P